DEPARTMENT OF TRANSPORTATION

Office of the Secretary

Notice of Applications for Certificates of Public Convenience and Necessity and Foreign Air Carrier Permits Filed Under Subpart B (Formerly Subpart Q) During the Week Ending August 10, 2007

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2007-28950.

Date Filed: August 6, 2007.

Due Date for Answers, Conforming Applications, or Motion to Modify Scope: August 27, 2007.

Description: Application of Vietnam Airlines Corporation (“ Vietnam Airlines”), I. requesting an exemption to conduct A. scheduled foreign air transportation of persons, property, and mail from points behind Vietnam, via Vietnam, Japan and Taiwan, to the U.S. coterminal points Los Angeles, San Francisco, New York, Seattle and Dallas/Ft.Worth, and beyond to points in Canada; and B. charter foreign air transportation of persons, property, and mail (1) Between any point or points in Vietnam and any point or points in the United States, (2) between any point or points in the United States and any point or points in third country or countries, provided that such service constitutes part of a continuous operation, with or without a change of aircraft, that includes service to Vietnam, for the purpose of carrying traffic between Vietnam and the United States, and (3) as otherwise authorized. II) A foreign air carrier permit to conduct A. scheduled foreign air transportation of persons, property, and mail, from points behind Vietnam via Vietnam and intermediate points to a point or points in the United States and beyond, consistent with the Air Transport Agreement in effect between the United States and Vietnam and the points and countries selected by the Government of Vietnam thereunder; and (B) charter foreign air transportation of persons, property, and mail (1) Between any point or points in Vietnam an any point or points in the United States, (2) between any point or points in the United States and any point or points in a third country or countries, provided that such service constituents part of a continuous operation, with or without a change of aircraft, that includes service to Vietnam for the purpose of carrying local traffic between Vietnam and the United States, and (3) as otherwise authorized.

Docket Number: OST-2002-12358.

Date Filed: August 7, 2007.

Due Date for Answers, Conforming Applications, or Motion to Modify Scope: August 28, 2007.

Description: Application of M&N Aviation, Inc. requesting authority to resume scheduled passenger operation as a commuter air carrier.

Renee V. Wright,
Program Manager, Docket Operations, Federal Register Liaison.

[FR Doc. E7-18566 Filed 9-19-07; 8:45 am]

BILLING CODE 4910-9X-P